ENVIRONMENTAL PROTECTION AGENCY

40 CFR Part 52

[RI-38-6985b; FRL-7493-4]

Approval and Promulgation of Air Quality Implementation Plans; Rhode Island Update to Materials Incorporated by Reference

AGENCY: Environmental Protection Agency (EPA).

ACTION: Final rule; notice of administrative change.

SUMMARY: EPA is updating the materials submitted by Rhode Island that are incorporated by reference (IBR) into the Rhode Island State Implementation Plan (SIP). The regulations affected by this update have been previously submitted by the State agency and approved by EPA. This update affects the SIP materials that are available for public inspection at the Office of the Federal Register (OFR), Office of Air and Radiation Docket and Information Center, and the Regional Office.

EFFECTIVE DATE: This action is effective June 11, 2003.

ADDRESSES: SIP materials which are incorporated by reference into 40 CFR part 52 are available for inspection at the following locations: Environmental Protection Agency, New England Regional Office (Region 1), One Congress Street, Suite 1100, Boston, MA 02114-2023; Office of Air and Radiation Docket and Information Center, Room B-108, 1301 Constitution Avenue, (Mail Code 6102T) NW., Washington, DC 20460, and Office of the Federal Register, 800 North Capitol Street, NW., Suite 700, Washington, DC 20002.

FOR FURTHER INFORMATION CONTACT: Mr. Donald Cooke, Environmental Scientist, at the above EPA New England Region address or at (617) 918-1668.

SUPPLEMENTARY INFORMATION: The State Implementation Plan (SIP) is a living document which the State can revise as necessary to address the unique air pollution problems in the State. Therefore, EPA from time to time must take action on SIP revisions containing new and/or revised regulations as being part of the SIP. On May 22, 1997, (62 FR 27968) EPA revised the procedures for incorporating by reference (IBR) Federally-approved SIPs, as a result of consultations between EPA and the Office of Federal Register (OFR). The description of the revised SIP document, IBR procedures and “Identification of plan” format are discussed in further detail in the May 22, 1997, Federal Register document. On August 9, 1999, EPA published a document in the Federal Register (64 FR 43083) beginning the new IBR procedure for Rhode Island. In this document EPA is doing the update to the material being IBRed.

EPA has determined that today's rule falls under the “good cause” exemption in section 553(b)(3)(B) of the Administrative Procedures Act (APA) which, upon finding “good cause,” authorizes agencies to dispense with public participation and section 553(d)(3) which allows an agency to make a rule effective immediately (thereby avoiding the 30-day delayed effective date otherwise provided for in the APA). Today's rule simply codifies provisions which are already in effect as a matter of law in Federal and approved State programs. Under section 553 of the APA, an agency may find good cause where procedures are “impractical, unnecessary, or contrary to the public interest.” Public comment is “unnecessary” and “contrary to the public interest” since the codification only reflects existing law. Immediate notice in the CFR benefits the public by updating citations.

Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves State law as meeting Federal requirements and imposes no additional requirements beyond those imposed by State law. Accordingly, the Administrator certifies that this rule will not have a significant economic impact on a substantial number of small entities under the Regulatory Flexibility Act (5 U.S.C. 601 et seq.). Because this rule approves pre-existing requirements under State law and does not impose any additional enforceable duty beyond that required by State law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a State rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve State choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. section 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. section 804(2).

Under section 307(b)(1) of the Clean Air Act, petitions for judicial review of this action must be filed in the United States Court of Appeals for the appropriate circuit by August 11, 2003. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: April 24, 2003.
Robert W. Varney,
Regional Administrator, EPA New England.

Chapter I, title 40, Code of Federal Regulations, is amended as follows:

PART 52—[AMENDED]

1. The authority for citation for part 52 continues to read as follows:

Authority: 42 U.S.C. 7401 et seq.

Subpart OO—Rhode Island

2. In § 52.2070 paragraphs (b), (c), (d) and (e) are revised to read as follows:

§ 52.2070 Identification of plan.

* * * * *

(b) Incorporation by reference. (1) Material listed in paragraph (c) and (d) of this section with an EPA approval date prior to April 23, 2003, was approved for incorporation by reference by the Director of the Federal Register in accordance with 5 U.S.C. 552(a) and 1 CFR part 51. Material is incorporated as it exists on the date of the approval, and notice of any change in the material will be published in the Federal Register. Entries in paragraphs (c) and (d) of this section with EPA approval dates after April 23, 2003, will be incorporated by reference in the next update to the SIP compilation.

(2) EPA Region 1 certifies that the rules/regulations provided by EPA in the SIP compilation at the addresses in paragraph (b)(3) of this section are an exact duplicate of the officially promulgated state rules/regulations which have been approved as part of the State Implementation Plan as of April 23, 2003.

(3) Copies of the materials incorporated by reference may be inspected at the New England Regional Office of EPA at One Congress Street, Suite 1100, Boston, MA 02114-2023; the Office of the Federal Register, 800 North Capitol Street, NW., Suite 700, Washington, DC; or at the EPA, Office of Air and Radiation Docket and Information Center, Room B-108, 1301 Constitution Avenue, (Mail Code 6102T) NW., Washington, DC 20460.

(c) EPA approved regulations.

EPA-Approved Rhode Island Regulations
State citation | Title/subject | State effective date | EPA approval date | Explanations
Air Pollution Control Regulation 1 | Visible emissions | 02/22/77 | 05/07/81, 46 FR 25446
Air Pollution Control Regulation 2 | Handling of soft coal | 02/22/77 | 05/07/81, 46 FR 25446
Air Pollution Control Regulation 3 | Particulate emissions from industrial processes | 02/22/77 | 05/07/81, 46 FR 25446
Air Pollution Control Regulation 4 | Open fires | 02/22/77 | 05/07/81, 46 FR 25446
Air Pollution Control Regulation 5 | Fugitive dust | 02/22/77 | 05/07/81, 46 FR 25446
Air Pollution Control Regulation 6 | Continuous emission monitors | 11/22/89 | 09/30/91, 56 FR 49416 | RI Air Pollution Control Regulation Number 6 is also referred to by the title “Opacity Monitors”.
Air Pollution Control Regulation 7 | Emission of air contaminants detrimental to persons or property | 07/19/77 | 05/07/81, 46 FR 25446
Air Pollution Control Regulation 8 | Sulfur content of fuels | 05/02/85 | 01/08/86, 51 FR 756
Air Pollution Control Regulation 9 | Air pollution control permits | 04/08/96 | 12/02/99, 64 FR 67500 | Definition of VOC revised. All of No. 9 is approved with the exception of Sections 9.13, 9.14, 9.15, and Appendix A which Rhode Island did not submit as part of SIP revision.
Air Pollution Control Regulation 10 | Air pollution episodes | 02/22/77 | 05/07/81, 46 FR 25446
Air Pollution Control Regulation 11 | Petroleum liquids marketing and storage | 01/31/93 | 12/17/93, 58 FR 65933
Air Pollution Control Regulation 12 | Incinerators | 04/22/81 | 04/26/82, 47 FR 17817
Air Pollution Control Regulation 13 | Particulate emissions from fossil fuel fired steam or hot water generating units | 10/05/82 | 03/29/83, 48 FR 13027
Air Pollution Control Regulation 14 | Record keeping and reporting | 04/08/96 | 12/02/99, 64 FR 67500 | Definition of VOC revised.
Air Pollution Control Regulation 15 | Control of organic solvent emissions | 04/08/96 | 12/02/99, 64 FR 67500 | Limited approval. Applicability threshold decreased to 50 tpy. Definition of VOC revised. All of No. 15 is approved with the except of 15.2.2 which Rhode Island did not submit as part of the SIP revision.
Air Pollution Control Regulation 16 | Operation of air pollution control systems | 02/22/77 | 05/07/81, 46 FR 25446
Air Pollution Control Regulation 17 | Odors | 02/22/77 | 05/07/81, 46 FR 25446
Air Pollution Control Regulation 18 | Control of Emissions from Organic Solvent Cleaning | Withdrawn | 12/02/99, 64 FR 67500 | No. 18 is superseded by No. 36.
Air Pollution Control Regulation 19 | Control of Volatile Organic Compounds from Surface Coating Operations | 03/07/96 | 12/02/99, 64 FR 67500 | Definition of VOC revised. Wood products requirements deleted because state adopted new Regulation No. 36 which addresses wood products. Except 19.2.2.
Air Pollution Control Regulation 21 | Control of Volatile Organic Compounds from Printing Operations | 04/08/96 | 12/02/99, 64 FR 67500 | Applicability threshold decreased to 50 tpy. Definition of VOC revised. All on No. 21 is approved with the exception of Section 21.2.3 which the State did not submit as part of the SIP revision.
Air Pollution Control Regulation 25 | Control of VOC Emissions from Cutback and Emulsified Asphalt | 04/08/96 | 12/02/99, 64 FR 67500 | Definition of VOC revised. All of No. 25 is approved with the exception of Section 25.2.2 which the state did not submit as part of the SIP revision.
Air Pollution Control Regulation 26 | Control of Organic Solvent Emissions from Manufacture of Synthesized Pharmaceutical Products | 04/08/96 | 12/02/99, 64 FR 67500 | Definition of VOC revised. All of No. 26 is approved with the exception of 26.2.3 which the state did not submit as part of the SIP revision.
Air Pollution Control Regulation 27 | Control of nitrogen oxide emissions | 01/16/96 | 09/02/97, 62 FR 46202
Air Pollution Control Regulation 29.3 | Emissions Caps | 04/28/95 | 03/22/96, 61 FR 11735 | This rule limits a source's potential to emit, therefore avoiding RACT, Title V Operating Permit.
Air Pollution Control Regulation 30 | Control of VOCs from Automotive Refinishing Operations | 04/08/96 | 12/02/99, 64 FR 67500 | Definition of VOC revised. All of No. 30 is approved with the exception of Section 30.2.2 which the state did not submit as part of the SIP revision.
Air Pollution Control Regulation 31 | Control of VOCs from Commercial and Consumer Products | 04/08/96 | 12/09/99, 64 FR 67500 | Definition of VOC revised. All of No. 31 is approved with the exception of Section 31.2.2 which the state did not submit as part of the SIP revision.
Air Pollution Control Regulation 32 | Control of VOCs from Marine Vessel Loading Operations | 04/08/96 | 12/02/99, 64 FR 67501 | Definition of VOC revised. All of No. 32 is approved with the exception of Section 32.2.2 which the State did not submit as part of the SIP revision.
Air Pollution Control Regulation 33 | Control of VOCs from Architectural Coatings and Industrial Maintenance Coatings | 04/08/96 | 12/02/99, 64 FR 67501 | Definition of VOC revised. All of No. 33 is approved with the exception of Section 33.2.2 which the state did not submit as part of the SIP revision.
Air Pollution Control Regulation 34 | Rhode Island Motor Vehicle Inspection/Maintenance Program | 03/30/00 | 02/09/01, 66 FR 9663 | Department of Environmental Management regulation containing I/M standards.
Air Pollution Control Regulation 35 | Control of VOCs and Volatile Hazardous Air Pollutants from Wood Products Manufacturing Operations | 07/07/96 | 12/02/99, 64 FR 67501 | All of No. 35 is approved with the exception of Section 35.2.3 which the state did not submit as part of the SIP revision.
Air Pollution Control Regulation 36 | Control of Emissions from Organic Solvent Cleaning | 04/18/96 | 12/02/99, 64 FR 67501 | All of No. 36 is approved with the exception of Section 36.2.2 which the state did not submit as part of the SIP revision.
Air Pollution Control Regulation 37 | Rhode Island's Low Emission Vehicle Program | 12/07/99 | 03/09/00, 65 FR 12480 | Includes National LEV as a compliance alternative.
Air Pollution Control Regulation 38 | Nitrogen Oxides Allowance Program | 06/10/98 | 06/02/99, 64 FR 29567 |
Air Pollution Control Regulation 41 | NOX Budget Trading Program | 10/01/99 | 12/27/00, 65 FR 81748 |
Rhode Island Motor Vehicle Safety and Emissions Control Regulation No. 1 | Rhode Island Motor Vehicle Inspection/Maintenance Program | 01/31/01 | 02/09/01, 66 FR 9663 | Department of Administration regulations for the I/M program.

(d) EPA-approved State Source specific requirements.

EPA-Approved Rhode Island Source Specific Requirements
Name of source | Permit No. | State effective date | EPA approval date | Explanations
Narragansett Electric Company South Street Station in Providence | A.H. File No. 83-12-AP | 08/29/03 | 07/27/84, 49 FR 30177 | Revisions to Air Pollution Control Regulation 8, “Sulfur Content of Fuels,” specifying maximum sulfur-in-coal limits (1.21 lbs/MMBtu on a 30-day rolling average and 2.31 lbs/MMBtu on a 24-hour average). These revisions approve Section 8.3.4, “Large Fuel Burning Devices Using Coal,” for South Street Station only.
Stanley Bostitch, Bostitch Division of Textron | A.H. File No. 85-8-AP | 06/06/85 | 12/11/86, 51 FR 44604 | RI DEM and Bostitch administrative consent agreement effective 6/6/85. Requires Bostitch to reformulate certain solvent-based coatings to low/no solvent formulation by 12/31/86. Also addendum dated 9/20/85 defining emission limitations reformulated coatings must meet. (A) An administrative consent agreement between the RI DEM and Bostitch Division of Textron. (B) A letter to Bostitch Division of Textron from the RI DEM dated September 20, 1985 which serves as an addendum to the consent agreement. The addendum defines the emission limitations which Bostitch's Division of Textron reformulated coatings.
Keene Corporation, East Providence, RI | A.H. File No. 85-10-AP | 09/12/85 | 08/31/87, 52 FR 2793 | RI DEM and Keene Corporation administrative consent agreement effective 9/12/85 Granting final compliance date extension for the control of organic solvent emissions from sixpaper coating lines. (A) Letter from the RI DEM dated November 5, 1985 submitting revisions to the RI SIP. (B) An administrative consent agreement between the RI DEM and Keene Corporation.
Tech Industries | File No. 86-12-AP | 11/24/87 | 03/10/89, 54 FR 10147 | RI DEM and Tech Industries original administrative consent agreement (86-12-AP) [except for provisions 7 and 8) effective 6/12/86, an addendum effective 11/24/87, defining and imposing reasonably available control technology to control volatile organic compounds. (A) An administrative consent agreement (86-12-AP), except for Provisions 7 and 8, between the RI DEM and Tech Industries effective June 12, 1986. (B) An addendum to the administrative consent agreement (86-12-AP) between the RI DEM and Tech Industries. The addendum was effective November 24, 1987. (C) Letters dated May 6, 1987; October 15, 1987; and January 4, 1988 submitted to the EPA by the RI DEM.
University of Rhode Island | A.P. File No. 87-5-AP | 03/17/87 | 09/19/89, 54 FR 38517 | Revisions to the SIP submitted by the RI DEM on April 28, 1989, approving a renewal of a sulfur dioxide bubble for the University of Rhode Island
University of Rhode Island. | File No. 95-50-AP | 03/12/96 | 09/02/97, 62 FR 46202 | An administrative consent agreement between RIDEM and University of Rhode Island, Alternative NOx RACT (RI Regulation 27.4.8)
Providence Metalizing in Pawtucket, Rhode Island | File No. 87-2-AP | 04/24/90 | 09/06/90, 55 FR 36635 | Define and impose RACT to control volatile organic compound emissions. (A) Letter from the RIDEM dated April 26, 1990, submitting a revision to the RI SIP. (B) An administrative consent agreement (87-2-AP) between the RI DEM and Providence Metallizing effective July 24, 1987. (C) An amendment to the administrative consent agreement (87-2-AP) between the RI DEM and Providence Metallizing effective May 4, 1989. (D) An addendum to the administrative consent agreement (87-2-AP) between the RI DEM and Providence Metallizing effective April 24, 1990.
Tillotson-Pearson in Warren, Rhode Island | File No. 90-1-AP | 06/05/90 | 08/31/90, 55 FR 35623 | Revisions to the SIP submitted by the RI DEM on May 24, 1990, to define and impose RACT to control volatile organic compound emissions. (A) Letter from the RI DEM dated May 24, 1990 submitting a revision to the RI SIP. (B) An Administrative consent agreement (90-1-AP) between the RI DEM and Tillotson-Pearson.
Rhode Island Hospital | File No. 95-14-AP | 11/27/95 | 09/02/97, 62 FR 46202 | Alternative NOx RACT. An administrative consent agreement between the RI DEM and RI Hospital.
Osram Sylvania Incorporated | File No. 96-06-AP; Air Pollution Permit Approval, No. 1350. | 09/04/96 | 09/02/97, 62 FR 46202 | Alternate NOx RACT. (A) An Administrative consent agreement between the RI DEM and Osram Sylvania Incorporated, file no. 96-06-AP, effective September 4, 1996. (B) An air pollution Permit approval, no. 1350 Osram Sylvania Incorporated Issued by RIDEM effective May 14, 1996.
Algonquin Gas Transmission Company | File No. 95-52-AP | 12/05/95 | 09/02/97, 62 FR 46202 | Alterate NOx RACT. (A) Letter from the RI DEM dated September 17, 1996 submitting a revision to the RI SIP. (B) An administering consent agreement between RIDEM and Algonquin Gas Transmission Company, effective on December 5, 1995.
Bradford Dyeing Association, Inc | File No. 95-28-AP | 11/17/95 | 09/02/97, 62 FR 46202 | Alternative NOx RACT. An administrative consent agreement between RIDEM and Bradford Dyeing Association, Inc.
Hoechst Celanese Corporation | File No. 95-62-AP | 11/20/95 | 09/02/97, 62 FR 46202 | Alternative NOx RACT. An administrative consent agreement between RIDEM and Hoechst Celanese Corporation.
Naval Education and Training Center in Newport | File No. 96-07-AP | 03/04/96 | 09/02/97, 62 FR 46202 | Alternative NOx RACT. An administrative consent agreement between RIDEM and Naval Education and Training Center in Newport.
Rhode Island Economic Development | File No. 96-04-AP | 09/02/97 | 06/02/99, 64 FR 29567 | Alternative NOx RACT. A consent agreement between RIDEM and Rhode Island Economic Development Corporation's Central Heating Plant in North Kingstown.
Cranston Print Works | A.H. File No. 95-30-AP | 12/19/95 | 12/02/99, 64 FR 67501 | Non-CTG VOC RACT Determination.
CCL Custom Manufacturing | A.H. File No. 97-02-AP | 04/10/97 10/27/99 | 12/02/99, 64 FR 67501 | Non-CTG VOC RACT Determination.
Victory Finishing Technologies | A.H. File No. 96-05-AP | 05/24/96 | 12/02/99, 64 FR 67501 | Non-CTG VOC RACT Determination.
Quality Spray and Stenciling | A.H. File No. 97-04-AP | 10/21/97 07/13/99 | 12/02/99, 64 FR 67501 | Non-CTG VOC RACT Determination.
Guild Music | A.H. File No. 95-65-AP | 11/09/95 | 12/02/99, 64 FR 67501 | Non-CTG VOC RACT Determination.

(e) Nonregulatory.

Rhode Island Non Regulatory
Name of non-regulatory SIP provision | Applicable geographic or nonattainment area | State submittal date/effective date | EPA approved date | Explanations
Notice of public hearing. | Statewide | Submitted 02/09/72 | 06/15/72, 37 FR 11911 | Proposed Implementation Plan Regulations, RI Department of Health.
Miscellaneous non-regulatory additions to the plan correcting minor deficiencies. | Statewide | Submitted 02/29/72 | 07/27/72, 37 FR 15080 | Approval and promulgation of Implementation Plan Miscellaneous Amendments, RI Department of Health.
Compliance schedules. | Statewide | Submitted 04/24/73 | 06/20/73, 38 FR 16144 | Submitted by RI Department of Health.
AQMA identifications for the State of Rhode Island | Statewide | Submitted 04/11/74 | 04/29/75, 40 FR 18726 | Submitted by RI Department of Health.
Letter identifying Metropolitan Providence as an AQMA | Metropolitan Providence | Submitted 09/06/74 | 04/29/75, 40 FR 18726 | Submitted by the Governor.
A comprehensive air quality monitoring plan, intended to meet requirements of 40 CFR part 58 | Statewide | Submitted 01/08/80 | 01/15/81, 46 FR 3516 | Submitted by the RI Department of Environmental Management Director.
Attainment plans to meet the requirements of Part D of the Clean Air Act, as amended in 1977. Included are plans to attain the carbon monoxide and ozone standards and information allowing for the re-designation of Providence to non-attainment for the primary TSP standard based on new data A program fo the review of construction and operation of new and modified major stationary sources of pollution in non-attainment areas Certain miscellaneous provisions unrelated to Part D are also included | Statewide | Submitted 05/14/79, 06/11/79, 08/13/79, 01/08/80, 01/24/80, 03/10/80, 03/31/80, 04/21/80, 06/06/80, 06/13/80, 08/20/80, 11/14/80, 03/04/81, 03/05/81 and 04/16/81 | 05/07/81, 46 FR 25446 | Attainment plans to meet the requirements of Part D of the Clean Air Act, as amended in 1977.
Section VI, Part II, “Stationary Source Permitting and Enforcement” of the narrative | Statewide | Submitted 05/14/82; and 07/01/82 | 06/28/83, 48 FR 29690 | As submitted by RI DEM on May 14, 1982 and July 1, 1982 for review of new major sources and major modifications in nonattainment areas. Also included are revisions to add rules for banking emission reductions.
Revisions to the Rhode Island State Implementation Plan for attainment of the primary National Ambient Air Quality Standard for ozone 1982 Ozone Attainment Plan | Statewide | Submitted 05/14/82; 07/01/82; 07/07/82; 10/04/82; and 03/02/83 | 07/06/83, 48 FR 31026 | Submitted by the Department of Environmental Management.
Revisions to attain and maintain the lead NAAQS | Statewide | Submitted 07/07/83 | 09/15/83, 48 FR 41405 | Submitted by the Department of Environmental Management.
Section VI, Part II of the associated narrative of the RI SIP | Statewide | Submitted 02/06/84; 01/27/84; and 06/06/84 | 07/06/84, 49 FR 27749 | To incorporate the requirements for the Prevention of Significant Deterioration of 40 CFR 51.24, permitting major stationary sources of lead and other miscellaneous changes.
Letter from RI DEM submitting an amendment to the RI State Implementation Plan Section VII of the RI SIP Ambient Air Quality Monitoring | Statewide | Submitted 01/14/94; and 06/14/94 | 10/30/96, 61 FR 55897 | A revision to the RI SIP regarding ozone monitoring. RI will modify its SLAMS and its NAMS monitoring systems to include a PAMS network design and establish monitoring sites. The State's SIP revision satisfies 40 CFR 58.20(f) PAMS requirements.
Letter from RI DEM submitting revisions | Statewide | Submitted 03/15/94 | 10/30/96, 61 FR 55903 | Revision to the RI SIP regarding the States' Contingency Plan.
Letter from RI DEM submitting revision—Rhode Island's 15 Percent Plan and Contingency Plan | Statewide | Submitted 03/15/94 | 04/17/97, 62 FR 18712 | The revisions consist of the State's 15 Percent Plan and Contingency Plan. EPA approved only the following portions of these submittals: 15 Percent Plan—the EPA approved the calculation of the required emission reductions, and the emission reduction credit claimed from surface coating, printing operations, marine vessel loading, plant closures (0.79 tons per day approved out of 0.84 claimed), cutback asphalt, auto refinishing, stage II, reformulated gas in on-road and off-road engines, and tier I motor vehicle controls. Contingency Plan—the EPA approved the calculation of the required emission reduction, and a portion of the emission reduction credits claimed from Consumer and Commercial products (1.1 tons per day approved out of 1.9 tons claimed), and architectural and industrial maintenance (AIM) coatings (1.9 tons per day approved out of 2.4 tons claimed). EPA concurrently disapproved portions of these SIP submissions, as discussed within Section 52.2084(a)(2).
Letter from RI DEM submitting revision for Clean Fuel Fleet Substitution Plan | Providence (all of Rhode Island) nonattainment area | 10/05/94 | 03/09/00, 65 FR 12476 |
Letter outlining commitment to national LEV | Statewide | 02/22/99 | 03/09/00, 65 FR 12476 | Includes details of the State's commitment to National LEV.
Negative Declaration for Synthetic Organic Chemical Manufacturing Industry (SOCMI) Distillation and Reactor Processes Control Techniques Guidelines Categories | Statewide | Submitted 04/05/95 | 12/02/99, 65 FR 67495. |
October 1, 1999, letter from Rhode Island Department of Environmental Management | Statewide | Submitted October 1, 1999 | 12/27/2000, 65 FR 81748 | Submitted Air Pollution Control Regulation No. 14, “NOX Budget Trading Program,” and the “NOX State implementation Plan (SIP) Call Narrative.”
“NOX State implementation Plan (SIP) Call Narrative,” September 22, 1999 | Statewide | Submitted October 1, 1999 | 12/27/2000, 65 FR 81748 |
November 9, 1999, letter from Rhode Island Department of Environmental Management | Statewide | Submitted November 9, 1999 | 12/27/2000, 65 FR 81748 | Stating RI's intent to comply with applicable reporting requirements.
Negative Declaration for Aerospace Coating Operations Control Techniques Guideline Category | Statewide | Submitted 03/28/00 | 07/10/00, 65 FR 42292 |

[FR Doc. 03-14572 Filed 6-10-03; 8:45 am]

BILLING CODE 6560-50-P